DEPARTMENT OF TRANSPORTATION

Federal Aviation Administration

Third Meeting: RTCA Special Committee 231, Special Committee 231 TAWS—GPWS

AGENCY: Federal Aviation Administration (FAA), U.S. Department of Transportation (DOT).

ACTION: Meeting Notice of RTCA Special Committee 231, TAWS-GPWS.

SUMMARY: The FAA is issuing this notice to advise the public of the third meeting of the RTCA Special Committee 231, TAWS-GPWS.

DATES: The meetings will be held January 6-8 2015 from 9:00 a.m.-5:00 p.m.

ADDRESSES: The meetings will be held at RTCA Headquarters, RTCA, Inc., 1150 18th Street NW., Suite 910, Washington DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 231. The agenda will include the following:

January 6th—9:00 a.m.-5:00 p.m.

• Welcome/Introduction

• Administrative Remarks

• Agenda Review

• NTSB Recommendations—FAA presentation

• Summary of Working Group activities

• Other Business

• Date and Place of Next Meeting

January 7th—9:00 a.m.-5:00 p.m.

• Continuation of Plenary or Working Group Session

January 8th—9:00 a.m.-3:00 p.m.

• Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 13, 2014.
Mohannad Dawoud,
Management Analyst, NextGen, Program Oversight and Administration, Federal Aviation Administration.

[FR Doc. 2014-27555 Filed 11-19-14; 8:45 am]

BILLING CODE 4910-13-P